DEPARTMENT OF COMMERCE

National Institute of Standards and Technology

Jointly Owned Invention Available for Licensing

AGENCY: National Institute of Standards and Technology, Commerce.

ACTION: Notice of jointly owned invention available for licensing.

SUMMARY: The invention listed below is jointly owned by the U.S. Government, as represented by the Department of Commerce, and JMAR Research, Inc. The Department of Commerce's ownership in this invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188, e-mail: mclague@nist.gov, or fax: 301-869-2751. Any request for information should include the NIST Docket number and title for invention as indicated below.

SUPPLEMENTARY INFORMATION: NIST may enter into a Cooperative Research and Development Agreement (“CRADA”) with the licensee to perform further research on the invention for purposes of commercialization. The invention available for licensing is: [Docket No.: 99-027US]

Title: Parallel X-ray Nanotomography.

Abstract: An apparatus for nanotomography uses an x-ray source comprising a laser generated plasma. X-rays generated in the x-ray source are collected and focused using a collector optic onto a sample. The collector optic is preferably comprised of Wolter optics combining reflection off an ellipsoid with a reflection off a hyperboloid. X-rays emitted from the sample are focused with an objective lens assembly. The objective lens assembly includes an array of fresnel zone plates. An image formation and acquisition apparatus form an image based on the received X-rays. The array of fresnel zone places is an important feature of the invention, as the array dramatically improves the intensity of the x-rays reaching the detector over a conventional objective lens. A laser-based x-ray source is also key to the invention, generating an x-ray beam of sufficient intensity to provide sufficient counting statistics for a tomographic reconstruction to be obtained.

Dated: January 8, 2003.
Karen H. Brown,
Deputy Director.

[FR Doc. 03-774 Filed 1-14-03; 8:45 am]

BILLING CODE 3510-13-P